DEPARTMENT OF TRANSPORTATION

Federal Aviation Administration

Agency Information Collection Activities: Requests for Comments; Clearance of Renewed Approval of Information Collection: Certification of Aircraft and Airmen for the Operation of Light-Sport Aircraft

AGENCY: Federal Aviation Administration (FAA), DOT.

ACTION: Notice and request for comments.

SUMMARY: In accordance with the Paperwork Reduction Act of 1995, FAA invites public comments about our intention to request the Office of Management and Budget (OMB) approval to renew an information collection. Information is maintained by owners and operators of light-sport aircraft and is collected to be used by FAA safety inspectors in determining whether required maintenance actions have been accomplished on light-sport aircraft. The information is also used when investigating accidents.

DATES: Written comments should be submitted by June 18, 2013.

FOR FURTHER INFORMATION CONTACT: Kathy DePaepe at (405) 954-9362, or by email at: Kathy.A.DePaepe@faa.gov.

SUPPLEMENTARY INFORMATION: OMB Control Number: 2120-0730.

Title: Certification of Aircraft and Airmen for the Operation of Light-Sport Aircraft.

Form Numbers: There are no FAA forms associated with this collection.

Type of Review: Renewal of an information collection.

Background: 14 CFR 91.417 requires the owners and operators of light-sport aircraft to maintain a record of the current status of applicable safety directives and transfer that information at the time of sale of the aircraft. The information is used by FAA safety inspectors in determining whether required maintenance actions have been accomplished on aircraft. The information is also used when investigating accidents.

Respondents: Approximately 1,000 owners/operators of light-sport aircraft.

Frequency: Information is maintained and reported to the FAA as needed.

Estimated Average Burden per Response: 2 hours.

Estimated Total Annual Burden: 2,133 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on April 15, 2013.
Albert R. Spence,
FAA Assistant Information Collection Clearance Officer, IT Enterprises Business Services Division, AES-200.

[FR Doc. 2013-09239 Filed 4-18-13; 8:45 am]

BILLING CODE 4910-13-P